COMMITTEE FOR PURCHASE FROM PEOPLE WHO ARE BLIND OR SEVERELY DISABLED

Procurement List; Proposed Deletion

AGENCY: Committee for Purchase From People Who Are Blind or Severely Disabled.

ACTION: Proposed deletion from the Procurement List.

SUMMARY: The Committee is proposing to delete a product from the Procurement List that was previously furnished by a nonprofit agency employing persons who are blind or have other severe disabilities.

DATES: Comments must be received on or before April 23, 2017.

ADDRESSES: Committee for Purchase From People Who Are Blind or Severely Disabled, 1401 S. Clark Street, Suite 715, Arlington, Virginia 22202-4149.

FOR FURTHER INFORMATION CONTACT: Amy B. Jensen, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed action.

Deletion

The following product is proposed for deletion from the Procurement List:

Product

NSN(s)—Product Name(s): 4610-01-117-8271—Bag, Drinking Water Storage

Mandatory Source(s) of Supply: Huntsville Rehabilitation Foundation, Huntsville, AL

Contracting Activity: Defense Logistics Agency Land and Maritime

Amy B. Jensen,
Director, Business Operations.

[FR Doc. 2017-05899 Filed 3-23-17; 8:45 am]

BILLING CODE 6353-01-P